DEPARTMENT OF JUSTICE

Drug Enforcement Administration

Importer of Controlled Substances; Notice of Application; Correction

By Notice dated April 17, 2006, and published in the Federal Register on April 21, 2006, (71 FR 20729), the Deputy Assistant Administrator, Office of Diversion Control, Drug Enforcement Administration, provided notice of an application by Rhodes Technologies, 498 Washington Street, Coventry, Rhode Island 02816, to be registered as an Importer of basic classes of controlled substances listed in Schedule II. The Notice of Application should be corrected by adding the following information: “The company plans to import the listed controlled substances to manufacture bulk active pharmaceutical ingredients.”

Dated: May 15, 2006.
Joseph T. Rannazzisi,
Deputy Assistant Administrator, Office of Diversion Control, Drug Enforcement Administration.

[FR Doc. E6-7736 Filed 5-19-06; 8:45 am]

BILLING CODE 4410-09-P